Proclamation 9736 of April 30, 2018

Older Americans Month, 2018

By the President of the United States of America

A Proclamation

During Older Americans Month, we recognize and celebrate those Americans who have spent decades providing for the next generation and building the greatness of our Nation. Our country and our communities are strong today because of the care and dedication of our elders. Their unique perspectives and experiences have endowed us with valuable wisdom and guidance, and we commit to learning from them and ensuring their safety and comfort.

Older Americans play critical roles in helping support their adult children, grandchildren, and extended families. They work and volunteer for businesses and organizations that drive our economy and serve our communities. Most importantly, our senior citizens mentor future generations and instill core American values in them. Their guidance preserves our heritage and the invaluable lessons of the past.

My Administration is focused on the priorities of our Nation's seniors. The Department of Justice, for example, is focused on protecting seniors from fraud and abuse. My Administration is also committed to protecting the Social Security system so that seniors who have contributed to the system can receive benefits from it. We are also dedicated to improving healthcare, including by increasing the quality of care our veterans receive through the Department of Veterans Affairs and by lowering prescription drug prices for millions of Americans.

As a Nation, we are grateful to older Americans for all they have done to build up and sustain our families and communities. Senior citizens deserve to be treated with respect, to have their needs met, and to age with dignity. This month, we recommit ourselves to ensure that older Americans are able to navigate financial and physical obstacles that could stand in the way of joyful and meaningful golden years.

NOW, THEREFORE, I, DONALD J. TRUMP, President of the United States of America, by virtue of the authority vested in me by the Constitution and the laws of the United States, do hereby proclaim May 2018 as Older Americans Month. I call upon all Americans to honor our elders, acknowledge their contributions, care for those in need, and reaffirm our country's commitment to older Americans this month and throughout the year.

IN WITNESS WHEREOF, I have hereunto set my hand this thirtieth day of April, in the year of our Lord two thousand eighteen, and of the Independence of the United States of America the two hundred and forty-second.

[FR Doc. 2018-09733

Filed 5-3-18; 11:15 am]

Billing code 3295-F8-P